DEPARTMENT OF STATE

[Public Notice 5291]

30-Day Notice of Proposed Information Collection: Form DS-86, Statement of Non-Receipt of a Passport, OMB Control Number 1405-0146

ACTION: Notice of request for public comment and submission to OMB of proposed collection of information.

SUMMARY: The Department of State has submitted the following information collection request to the Office of Management and Budget (OMB) for approval in accordance with the Paperwork Reduction Act of 1995.

Title of Information Collection: Statement of Non-Receipt of A Passport.

OMB Control Number: 1405-0146.

Type of Request: Revision of the currently approved collection.

Originating Office: Bureau of Consular Affairs, Department of State, Passport Services, Office of Field Operations, Field Coordination Division. CA/PPT/FO/FC.

Form Number: DS-86.

Respondents: Individuals or Households.

Estimated Number of Respondents: 23,500.

Estimated Number of Responses: 23,500.

Average Hours per Response: 1/12 hr. (5 min.).

Total Estimated Burden: 2,000 hours annually.

Frequency: On occasion.

Obligation to Respond: Required to Obtain a Benefit.

DATES: Submit comments to the Office of Management and Budget (OMB) for up to 30 days from February 1, 2006.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Susan Cowlishaw, U.S. Department Of State, CA/PPT/FO/FC. 2100 Pennsylvania Avenue, NW., 3rd Floor/Room 3040/ SA-29, Washington, DC 20037, who may be reached on 202.261.8957 or Cowlishawsc@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Statement of Non-Receipt of A Passport, Form DS-86, is used by the U.S. Department of State to collect information for the purpose of issuing a replacement passport to customers who have not received the passport for which they originally applied.

The information is used by the Department of State to ensure that no person shall bear more than one valid or potentially valid U.S. passport at any one time, except as authorized by the Department, and is also used to combat passport fraud and misuse.

Methodology: Passport applicants who do not receive their passports are required to complete a Statement of Non-Receipt of A Passport, Form DS-86. Passport applicants can either download the form from the Internet or obtain one from an Acceptance Facility/Passport Agency. The form must be completed, signed, and then submitted to the Acceptance Facility/Passport Agency for passport re-issuance.

Dated: January 12, 2006.
Frank Moss,
Deputy Assistant Secretary for Passport Services, Bureau of Consular Affairs, Department of State.

[FR Doc. E6-1356 Filed 1-31-06; 8:45 am]

BILLING CODE 4710-06-P